DEPARTMENT OF DEFENSE

Office of the Secretary

Defense Threat Reduction Agency; Membership of the Performance Review Board

AGENCY: Department of Defense, Defense Threat Reduction Agency.

ACTION: None.

SUMMARY: This notice announces the appointment of Defense Threat Reduction Agency (DTRA) Performance Review Board (PRB) membership. The publication of the PRB membership is required by 5 U.S.C. 4314(c)(4). The PRB shall provide fair and impartial review of Senior Executive performance appraisals and make recommendations regarding performance ratings and performance awards to the Director, Defense Threat Reduction Agency.

EFFECTIVE DATE: The effective date of service for the appointees of the DTRA PRB is on or about September 12, 2002.

FOR FURTHER INFORMATION CONTACT: Ms. Tana Farrell, Resource Management Directorate, 7037675759, Defense Threat Reduction Agency, 8725 John J. Kingman Road, Stop 6201, Ft. Belvoir, Virginia 220606201.

SUPPLEMENTARY INFORMATION: In accordance with 5 U.S.C. 4314(c)(4), the officials appointed to serve as members of the DTRA PRB are set forth below.

PRB Chair: Mr. Robert L. Brittigan

Member: Mr. Douglas M. Englund

Member: Ms. Ann Bridges Steely.

The following DIRA officials will serve as alternate members of the DTRA PRB:

Mr. Michael Evenson

Dr. Joe Golden

Mr. Richard Gullickson

Dr. Arthur Hopkins

Mr. Myron Kunka

Dr. Don Linger

Mr. Vayl Oxford

Ms. Joan Ma Pierre

Dr. Michael Shore

Dr. Starnes Walker

Dr. Leon Wittwer

Dated: August 26, 2002.
Patricia L. Toppings,
Alternate OSD Federal Register Liaison Officer, Department of Defense.

[FR Doc. 02-22144 Filed 8-29-02; 8:45 am]

BILLING CODE 5001-08-M